DEPARTMENT OF LABOR

Employment and Training Administration

[TA-W-82,300]

UBS Financial Services, Inc., Wealth Management Americas Operations, Including On-Site Leased Workers From Leafstone, Cognizant Technology Solutions U.S. Corporation, Atika Technologies, Clairvoyant Tech Solutions, Inc., E-Solutions, Inc., d/b/a Vidhwan, Inc., IDC Technologies, Inc., Local Information Services, Inc., Mindlance, Inc., Mobius, Inc., Net2source, Inc., Pyramid Consulting, Simplion Technologies, Inc., TTS Solutions, LLC, and Ztek Consulting, Inc., Weehawken, NJ; Amended Certification Regarding Eligibility To Apply for Worker Adjustment Assistance

In accordance with Section 223 of the Trade Act of 1974, as amended (“Act”), 19 U.S.C. 2273, the Department of Labor (Department) issued a Certification of Eligibility to Apply for Worker Adjustment Assistance on January 10, 2013, applicable to workers of UBS Financial Services, Inc., Wealth Management Americas Operations (UBS), Weehawken, New Jersey. The workers are engaged in activities related to the supply of operational support for WMA Financial Advisors and trading partners.

New information obtained by the Department revealed that workers from several leasing agencies are part of the certified worker group at UBS, Weehawken, New Jersey. These leased workers worked both on-site at UBS, Weehawken, New Jersey and remotely.

The intent of the Department's certification is to include all leased workers on-site at UBS Financial Services, Inc., Wealth Management Americas Operations (UBS), Weehawken, New Jersey, who were all adversely affected by the subject firm's acquisition of like or directly competitive services from a foreign country. The amended notice applicable to TA-W-82,300 is hereby issued as follows:

All workers of UBS Financial Services, Inc., Wealth Management Americas Operations, including on-site leased workers from Leafstone, Cognizant Technology Solutions U.S. Corporation, Atika Technologies, Clairvoyant Tech Solutions, Inc., E-Solutions, Inc., d/b/a Vidhwan, Inc., IDC Technologies, Inc., Local Information Services, Inc., Mindlance, Inc., Mobius, Inc., Net2source, Inc., Pyramid Consulting, Simplion Technologies, Inc., TTS Solutions, LLC and Ztek Consulting, Inc., Weehawken, New Jersey, who became totally or partially separated from employment on or after December 27, 2011 through January 10, 2015, and all workers in the group threatened with total or partial separation from employment on January 10, 2013 through January 10, 2015, are eligible to apply for adjustment assistance under Chapter 2 of Title II of the Trade Act of 1974, as amended.

Signed at Washington, DC, this 4th day of February, 2013.
Del Min Amy Chen,
Certifying Officer, Office of Trade Adjustment Assistance.

[FR Doc. 2013-04021 Filed 2-21-13; 8:45 am]

BILLING CODE 4510-FN-P